DEPARTMENT OF AGRICULTURE

Agricultural Marketing Service

7 CFR Part 1033

[Docket No. AO-166-A72; DA-05-01]

Milk in the Mideast Marketing Area; Amendment to Hearing on Proposed Amendments to Tentative Marketing Agreement and Order

AGENCY: Agricultural Marketing Service, USDA.

ACTION: Proposed rule; amendment to public hearing on proposed rulemaking.

SUMMARY: The Agricultural Marketing Service is withdrawing from the notice of hearing that appeared in the Federal Register of February 17, 2005 (70 FR 8043), to consider proposals to amend certain provisions of the Mideast Federal milk marketing order, a proposal regarding producer-handler regulation. Due to unforeseen circumstances, Proposal 10, which would modify the producer-handler definition will not be heard at this time. The proposal to amend the producer-handler definition will be addressed at a future hearing. The date, time and location of the future hearing has yet to be determined. All other proposals as originally published in the February 17, 2005, notice of hearing will still be addressed.

FOR FURTHER INFORMATION CONTACT: Gino Tosi, Marketing Specialist, Order Formulation and Enforcement Branch, USDA/AMS/Dairy Programs, Stop 0231—Room 2971, 1400 Independence Avenue, SW., Washington, DC 20250-0231, (202) 690-1366, e-mail address: gino.tosi@usda.gov.

SUPPLEMENTARY INFORMATION: The notice of hearing was published in the Federal Register on February 17, 2005 (70 FR 8043), containing 11 proposals to be considered at a public hearing scheduled to begin on March 7, 2005. Due to unforeseen circumstances, Proposal 10, which sought to amend the producer-handler provision, will not be heard at this time.

Authority: 7 U.S.C. 601-674.

Dated: March 1, 2005.
Kenneth C. Clayton,
Acting Administrator, Agricultural Marketing Service.

[FR Doc. 05-4176 Filed 3-1-05; 1:50 pm]

BILLING CODE 3410-02-P